DEPARTMENT OF HEALTH AND HUMAN SERVICES

Centers for Disease Control and Prevention

[60Day-04-JP]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, or to send comments contact Sandi Gambescia, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Risk Factors for Acute Hepatitis B or Acute Hepatitis C in Older Adults—New—National Center for Infectious Diseases (NCID), Centers for Disease Control and Prevention (CDC).

Questionnaires and data collection forms have been designed to collect information over a 24-month period regarding risk factors for acute hepatitis B or acute hepatitis C in persons age ≥60 years. The purpose of the project is to evaluate the possible associations between healthcare-related exposures and sporadic cases of acute hepatitis B or acute hepatitis C among older adults. The results of the project will assist CDC in accomplishing the part of its mission related to preparing recommendations for the prevention and control of viral hepatitis and its sequelae.

The respondent universe will include residents of a defined geographic area served by the participating public health agency, along with their healthcare providers. Persons identified as meeting the case definition for acute hepatitis B or C age ≥60 years will be asked to participate. Controls will be randomly selected through random digit dialing from among persons age ≥60 years in the general population. For consenting cases and controls, medical record reviews and healthcare provider interviews will be conducted in connection with healthcare-related exposures. There is no cost to respondents.

Respondents | Number of respondents | Number of responses per respondent | Average burden per response (in hrs) | Total burden hours
Consenting Adults Meeting Case/Control Criteria | 160 | 1 | 30/60 | 80
Healthcare Providers | 120 | 1 | 20/60 | 40
Total | 280 |  |  | 120

Dated: July 15, 2004.
Betsey Dunaway,
Acting Director, Management Analysis and Services Office, Centers for Disease Control and Prevention.

[FR Doc. 04-16544 Filed 7-20-04; 8:45 am]

BILLING CODE 4163-18-P